DEPARTMENT OF THE INTERIOR

Bureau of Land Management

[LLMT924000 L14400000.FR0000 16XL1109AF; MO#4500091180; MTM 108489]

Notice of Proposed Classification of Public Lands and Minerals for State Indemnity Selection, Montana

AGENCY: Bureau of Land Management, Interior.

ACTION: Notice.

SUMMARY: The Montana Department of Natural Resources and Conservation (State) has filed a petition for classification and application to obtain public lands and mineral estate in lieu of lands to which the State was entitled, but did not receive under its Statehood Act. The State did not receive title because the lands had previously been appropriated. Under Section 7 of the Taylor Grazing Act of 1934, the Bureau of Land Management (BLM) proposes to classify sufficient acreage of public lands/minerals in Montana for title transfer to the State to satisfy this obligation to the State. Of the area proposed for State Indemnity Selection, 10,560 acres are designated as greater sage-grouse General Habitat Management area.

DATES: Comments must be received by December 16, 2016.

The BLM will not consider or include comments received after the close of the comment period or comments delivered to an address other than the one listed below. Persons asserting a claim to or interest in the lands or mineral estate described in this notice will find the requirements for filing such claims in the SUPPLEMENTARY INFORMATION section.

ADDRESSES: The public may submit written comments by mail or hand delivery to: State Director, Montana/Dakotas State Office, Bureau of Land Management, Department of the Interior, 5001 Southgate Drive, Billings, MT 59101.

FOR FURTHER INFORMATION CONTACT: Jim Ledger, Realty Specialist, Branch of Lands, Realty, and Renewable Energy; telephone (406) 329-3733; email jledger@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Sections 2275 and 2276 of the Revised Statutes, as amended (43 U.S.C. 851 and 852), provide authority for the State of Montana to receive title to public lands in lieu of lands to which it was entitled under the Enabling Act of 1889 (25 Stat. 676), where it did not receive title because those lands had otherwise been encumbered.

Section 7 of the Taylor Grazing Act of June 8, 1934, requires that such public lands and/or minerals identified for proposed transfer out of Federal ownership must first be classified. The BLM proposes to classify these lands/minerals under Section 7 of the Taylor Grazing Act of June 8, 1934 (48 Stat. 1272, as amended), 43 U.S.C. 315(f). For a period until December 16, 2016 all persons who wish to submit comments, suggestions, or objections in connection with this classification may present their views by the means shown under the ADDRESSES section above.

Any adverse comments will be evaluated by the BLM Montana/Dakotas State Director, who will issue a notice of determination to proceed with, modify, or cancel the proposed classification. In the absence of any action by the State Director, this classification action will be issued as the initial classification decision of the State Director.

Comments, including names and street addresses of respondents and records relating to this proposed classification, will be available for public review at the BLM Montana/Dakotas State Office at the address cited in the ADDRESSES section above during regular business hours. Before including your address, phone number, email address, or other personal identifying information in your comment, you should be aware that your entire comment—including your personal identifying information—may be made publicly available at any time. While you can ask us in your comment to withhold your personal identifying information from public review, we cannot guarantee that we will be able to do so.

The BLM intends to schedule public meetings during the 60-day comment period. The BLM will announce the public meetings 15 days prior to the meetings in newspapers of general circulation in the vicinity of the selected lands and via the Web site at www.blm.gov/mt/st/en/prog/lands_realty/indemnity.html.

The lands/minerals included within this proposed classification are in Custer, Fallon, Prairie, Richland, and Yellowstone Counties, Montana, and are described as follows:

Principal Meridian, Montana

T. 3 N., R. 30 E.,

sec. 1;

sec. 2, S½;

sec. 12, N½.

T. 4 N., R. 31 E.,

secs. 6, 7, 8, and 17;

sec. 18, lots 1 thru 4, NE¼, E½NW¼, and E½SW¼.

T. 5 N., R. 46 E.,

sec. 24, E½.

T. 4 N., R. 47 E.,

sec. 6;

sec. 8, NW¼NE¼, SE¼NE¼, N½NW¼, and NE¼SE¼.

T. 7 N., R. 47 E.,

sec. 4; portions of Tracts O and Z.

T. 12 N., R. 50 E.,

sec. 14; lots 1 thru 4, S½SW¼, and S½SE¼.

T. 12 N., R. 52 E.,

sec. 3, lots 1, 2, and 3;

sec. 5;

sec. 6, lots 2 thru 7, S½NE¼, SE¼NW¼, E½SW¼, and SE¼;

sec. 7, lots 1 thru 7, NW¼NE¼, and E½NW¼;

sec. 8, lots 1, 2, and 3.

T. 13 N., R. 52 E.,

sec. 29, E½SE¼SW¼, E½NW¼SE¼SW¼, E½SW¼SE¼SW¼, and S½SE¼;

sec. 30, S½SW¼ and S½SE¼;

sec. 33, lots 5, 6, and 7.

T. 9 N., R. 55 E.,

sec. 25, W½;

sec. 26, E½, E½NW¼, and E½SW¼.

T. 26 N., R. 55 E.,

sec. 1, lot 4;

sec. 2, lots 1 and 2, and SW¼NE¼.

T. 8 N., R. 56 E.,

sec. 12, W½ and E½SE¼;

sec. 13;

sec. 14, N½, excepting a 1 acre tract in the NW¼NW¼ and SW¼;

sec. 24, S½.

T. 27 N., R. 56 E.,

sec. 7, lots 7 thru 12, SE¼SW¼, and S½SE¼;

sec. 8, lot 12 and S½SW¼;

sec. 9, lots 3, 4, and 5, SE¼SW¼, and SW¼SE¼;

sec. 17, E½, N½NW¼, SW¼NW¼, and SW¼;

sec. 18, lots 1 thru 4, NE¼, E½NW¼, SE¼SW¼, and SE¼;

sec. 22, NE¼NE¼, SW¼NW¼, and W½SW¼.

T. 8 N., R. 57 E.,

sec. 18, E½NE¼ and SE¼;

sec. 19.

The areas described aggregate 13,495.74 acres.

The State expressed interest in the selection of lands withdrawn to the Bureau of Reclamation (BOR). The BOR has filed with the BLM a Notice of Intent to Relinquish, dated January 26, 2016, requesting partial revocation of an Order dated, October 15, 1904, and full revocation of an Order dated March 30, 1950. Should the revocations be approved, the following lands in Chouteau and Hill Counties are proposed for classification by this notice as available for State indemnity selection:

Principal Meridian, Montana

T. 29 N., R. 11 E.,

sec. 21, N½NE¼ and N½NW¼;

sec. 22, NW¼NW¼.

T. 29 N., R. 12 E.,

sec. 9, W½ and SE¼;

sec. 21, N½, SW¼, N½SE¼, and SW¼SE¼;

sec. 22;

sec. 28, W½;

sec. 29, E½NE¼ and E½SE¼.

T. 30 N., R. 12 E.,

sec. 35, SE¼.

The areas described aggregate 2,560 acres.

The BLM will examine all lands described above for evidence of valid existing rights and any constraints that would prevent transfer. Right-of-way (ROW) holders will be afforded the opportunity to modify their existing authorization per 43 CFR 2807.15. Oil and gas, geothermal, or other leases issued under the authority of the Mineral Leasing Act of 1920 (30 U.S.C. 181 et seq.) will remain in effect under the terms and conditions of the leases. Agricultural leases issued under the authority of the Federal Land Policy and Management Act of 1976 (43 U.S.C. 1732) will remain in effect under the terms and conditions of the leases.

Current holders of BLM grazing use authorizations were sent the required 2-year notice in January 2016 as outlined in 43 CFR 4110.4-2(b). Upon expiration of the 2-year period or receipt of a waiver from the current holder, such authorizations will be terminated upon transfer of any of the land described above to the State of Montana. State of Montana procedures provide that upon Land Board Approval, the State will offer 10-year grazing leases to the current holders of BLM permits/leases on any transferred lands.

For a period until December 1, 2016 persons asserting a claim to, or interest in, the above-described lands or mineral estate, other than holders of leases, permits, or ROWs, may file such claim with the BLM Montana/Dakotas State Director at the address cited in the ADDRESSES section above. You must provide evidence that a copy thereof has been served on the Montana Department of Natural Resources and Conservation, 1625 11th Avenue, P.O. Box 201601, Helena, MT 59620.

Under 43 CFR 2091.3-1(b) the lands described above were segregated from entry upon application by the State from all forms of disposal under the public land laws, including the mining laws, except for the form of land disposal specified in this notice of classification. However, this publication does not alter the applicability of the public land laws governing the use of the lands under lease, license, or permit, or governing the disposal of their mineral and vegetative resources, other than under the mining laws.

The segregative effect of this classification will terminate in one of the following ways:

(1) Classification of the lands on or before the expiration of the 2-year period from the date of application;

(2) Publication of a notice of termination of the classification in the Federal Register;

(3) An Act of Congress; or

(4) Expiration of the 2-year period from the date of application unless notice of extension for the proposed classification for an additional period, not exceeding 2 years, is given.

Authority: 43 CFR parts 2091, 2400, and 2621.

Jamie Connell,
BLM Montana/Dakotas State Director.

[FR Doc. 2016-24944 Filed 10-14-16; 8:45 am]

BILLING CODE 4310-DN-P